DEPARTMENT OF HEALTH AND HUMAN SERVICES

Substance Abuse and Mental Health Services Administration

Revocation of Certification of a Laboratory Which No Longer Meets Minimum Standards To Engage in Urine Drug Testing for Federal Agencies

AGENCY: Substance Abuse and Mental Health Services Administration, HHS.

ACTION: Notice.

SUMMARY: The Department of Health and Human Services routinely publishes a list of laboratories in the Federal Register that are currently certified to meet standards of Subpart C of the Mandatory Guidelines for Federal Workplace Drug Testing Programs (Mandatory Guidelines). The Mandatory Guidelines were first published in the Federal Register on April 11, 1988 (53 FR 11970), and subsequently revised in the Federal Register on June 9, 1994 (59 FR 29908), on September 30, 1997 (62 FR 51118), and on April 13, 2004 (69 FR 19644).

This notice informs the public that the following laboratory's certification was revoked effective February 8, 2006: Sciteck Clinical Laboratories, Inc., 317 Rutledge Road, Fletcher, North Carolina 28732.

The letter describing the reasons for revoking Sciteck's certification is available on the Internet at http://workplace.samhsa.gov.

FOR FURTHER INFORMATION CONTACT: Dr. Donna Bush, Division of Workplace Programs, SAMHSA/CSAP, Room 2-1035, 1 Choke Cherry Road, Rockville, Maryland 20857; 240-276-2600 (voice), 240-276-2610 (fax).

Anna Marsh,
Director, Office of Program Services, SAMHSA.

[FR Doc. E6-6657 Filed 5-2-06; 8:45 am]

BILLING CODE 4162-20-P